DEPARTMENT OF HOUSING AND URBAN DEVELOPMENT

[Docket No. FR-5312-N-01]

Notice of Availability: Program Requirements for the Green Retrofit Program for Multifamily Housing Under the American Recovery and Reinvestment Act of 2009

AGENCY: Office of the Assistant Secretary for Housing—Federal Housing Commissioner, HUD.

ACTION: Notice.

SUMMARY: HUD announces the availability of program requirements, including eligibility requirements and application instructions, for the Green Retrofit Program authorized under Title XII of the American Recovery and Reinvestment Act of 2009 (Pub. L. 111-5, approved February 17, 2009). The Green Retrofit Program makes funding available to multifamily owners for adopting measures that will meet requirements for green project operation. The notice establishing the program requirements is available on the HUD Web site at: http://www.hud.gov/recovery/.

FOR FURTHER INFORMATION CONTACT: Theodore K. Toon, Deputy Assistant Secretary, Office of Affordable Housing Preservation, Office of Housing, Department of Housing and Urban Development, 451 7th Street, SW., Room 6230, Washington, DC 20410; telephone 202-708-0001 (this is not a toll-free number). Persons with hearing or speech impairments may access this number through TTY by calling the toll-free Federal Information Relay Service at 800-877-8339.

Dated: May 13, 2009.
Brian D. Montgomery,
Assistant Secretary for Housing—Federal Housing Commissioner.

[FR Doc. E9-11556 Filed 5-13-09; 4:15 pm]

BILLING CODE 4210-67-P